DEPARTMENT OF HEALTH AND HUMAN SERVICES

Administration for Children and Families

[Program Announcement No. 93612-2003]

Administration for Native Americans: Availability of Financial Assistance

AGENCY: Administration for Native Americans ACF, HHS.

ACTION: Announcement of availability of competitive financial assistance for projects in competitive areas administered by the Administration for Native Americans for American Indians, Native Hawaiians, Alaska Natives and Native American Pacific Islanders.

SUMMARY: The Administration for Native Americans (ANA) announces the anticipated availability of fiscal year 2003 funds in two competitive areas:

Area (1) Social and Economic Development Strategies (SEDS)—closing dates are January 17, 2003; and May 2, 2003.

Area (2) Social and Economic Development Strategies for Alaska Natives (AK-SEDS)—closing date is May 2, 2003.

Financial assistance provided by ANA in support of projects in these two areas is intended to promote the goal of self-sufficiency for Native Americans. The printed Federal Register notice is the only official program announcement. Although all reasonable efforts are taken to assure that the files on the ANA World Wide Web Page containing electronic copies of this Program Announcement are accurate and complete, they are provided for information only. The applicant bears sole responsibility to assure that the copy downloaded and/or printed from any other source is accurate and complete. Copies of this program announcement and many of the required forms may be obtained electronically at the ANA World Wide Web address http://www.acf.hhs.gov/programs/ana/.

FOR FUTHER INFORMATION CONTACT: Contact the ANA Applicant Help Desk at 202-690-7776 or toll free at 1-877-922-9262 for assistance.

SUPPLEMENTARY INFORMATION:

Introduction and Purpose

The purpose of this program announcement is to announce the anticipated availability of fiscal year 2003 funds, authorized under the Native American Programs Act of 1974 (Act), as amended, to promote the goal of social and economic self-sufficiency for American Indians, Alaska Natives, Native Hawaiians, and Native American Pacific Islanders in two competitive areas. Funding authorization is provided under sections 803(a), of the Native American Programs Act of 1974, as amended (Pub. L. 93-644, 88 Stat. 2324, 42 U.S.C. 2991b).

The Administration for Native Americans assists eligible applicants for the two competitive areas to undertake 12 to 36 month development projects that are part of long-range comprehensive plans to move toward governance, social, and/or economic self-sufficiency.

In order to streamline the application process for eligible applicants under two competitive areas, ANA is issuing a single program announcement for fiscal year 2003 funds. Information regarding ANA's mission, policy, goals, application requirements, review criteria and closing dates for the two competitive areas are included in this announcement.

The Administration for Native Americans promotes the goal of self-sufficiency in Native American communities primarily through Social and Economic Development Strategies (SEDS) projects. This program announcement is being issued in anticipation of the appropriation of funds for fiscal year 2003 and the availability of funds for these competitive areas is contingent upon sufficient final appropriations. Proposed projects are reviewed on a competitive basis against the specific evaluation criteria presented under each competitive area in this announcement.

Notice: Organizations from Palau are no longer eligible for assistance under ANA programs. See Part II, Section D: Eligible Applicants for additional information.

White House Initiatives: In support of the executive order on Asian American and Pacific Islanders, ANA encourages greater participation from Hawaiian and Pacific Islander communities. Executive Order on People with Disabilities encourages all communities to address the needs of people with disabilities in all programs in accordance with the Americans with Disabilities Act (ADA). ANA encourages all Native communities to address the needs of People with Disabilities in all aspects of their programs. ANA also encourages greater participation from Native organizations serving People with Disabilities.

Departmental Initiatives: In FY 2003, a special emphasis is announced for incorporating capacity-building for tribes who are operating or plan to operate Tribal Child Support Enforcement programs either solely or in conjunction with a tribal TANF program. As a part of a tribal social development project, capacity building can include cooperative agreements with States to deliver critical elements of a comprehensive child support program or such capacity-building of tribal governments to run solely tribal programs with no cooperative agreement with a state.

The Division of Children and Families has several initiatives that support and foster strong families and healthy communities. Four of those initiatives the ANA is particularly interested in are access for faith-based and community programs, support for rural communities, prevention and intervention services for youth, and the promotion of healthy relationships and strengthening families.

Faith-based and Community Initiative: Such organizations are eligible entities when they meet the ANA eligibility criteria.

Healthy Relationships and Strengthening Families Initiative: Because of the benefits of marriage for children, adults, and society, ANA is interested in promoting healthy marriage and responsible fatherhood among the populations it serves. The funds may be used to provide premarital programs and marriage education and enrichment programs to couples. These programs should provide the knowledge and skills necessary to form and sustain a healthy marriage. It may be appropriate to develop partnerships with other agencies and organizations that have experience in the field of marriage education, preparation and enrichment.

This program announcement consists of three parts.

Part I. ANA Policy and Goals

Provides general information about ANA's policies and goals for these two competitive areas. This section contains information pertaining to all applicants.

Part II. ANA Competitive Areas

Describes the competitive areas under which ANA is requesting applications:

Competitive Area (1): Governance, Social and Economic Development (SEDS); Competitive Area (2): Governance, Social and Economic Development (AK-SEDS) for Alaska Natives.

Each competitive area includes the following sections, which provide information to be used to develop an application:

A. Purpose and Availability of Funds

B. Background

C. Proposed Projects To Be Funded

D. Eligible Applicants

E. Grantee Share of the Project

F. Review Criteria

G. Application Due Date(s)

H. Contact Information

Part III. General Application Information and Guidance

Provides important information and guidance that applies to all competitive areas and must be taken into account in developing an application for either of the two competitive areas.

A. Definitions

B. Activities That Cannot Be Funded

C. Multi-Year Projects

D. Intergovernmental Review of Federal Programs

E. The Application Process

F. The Review Process

G. General Guidance to Applicants

H. Paperwork Reduction Act of 1995

I. Deadlines

Part I—ANA Policy and Goals

The mission of the Administration for Native Americans (ANA) is to promote the goal of social and economic self-sufficiency for American Indians, Alaska Natives, Native Hawaiians, and other Native American Pacific Islanders.

The Administration for Native Americans believes that a Native American community is self-sufficient when it can generate and control the resources necessary to meet its social and economic goals, and the needs of its members.

The Administration for Native Americans also believes that the responsibility for achieving self-sufficiency resides with the governing bodies of Indian tribes, Alaska Native villages, and in the leadership of Native American groups. A community's progress toward self-sufficiency is based on its efforts to plan, organize, and direct resources in a comprehensive manner, which is consistent with its established long-range goals.

The Administration for Native Americans' policy is based on three interrelated goals:

1. Governance: To assist tribal and Alaska Native village governments, Native American institutions, and local leadership to exercise local control and decision-making over their resources.

2. Social Development: To support local access to, control of, and coordination of services and programs which safeguard the health, well-being and culture of people, provide support services and training so people can work, and which are essential to a thriving and self-sufficient community in the spirit of respect for indigenous peoples' cultural and intellectual property rights.

3. Economic Development: To foster the development of stable, diversified local economies and economic activities that will provide jobs and promote economic well being.

Applicants must comply with the following ANA administrative policies:

• ANA continues a variety of requirements directed towards enforcing its policy that an eligible grant recipient may only have one active ANA grant awarded from a competitive area at any time. Therefore, while eligible applicants may compete for a grant in each of the competitive areas, an applicant may only submit one application per competitive area and no applicant may receive more than one grant in each competitive area, including any existing ANA grant. In addition, an Alaska Native entity may not submit an application under both Competitive Areas 1 and 2 for the May closing date. Alaska Native entities may receive a grant under either competitive area 1 or 2, but not under both.

• Current grantees whose project period extends beyond September 29, 2003, or who have requested an extension of the project period beyond that date, are not eligible to apply for a grant under the same program area. The Project Period is noted in Block 9 of the Financial Assistance Award document.

• Applicants for any competitive area may propose 12 to 36 month projects.

• Applicants must describe a locally determined strategy to carry out a proposed project with fundable objectives and activities.

• Local long-range planning must consider the maximum use of all available resources, how the resources will be directed to development opportunities, and present a strategy for overcoming the local issues that hinder movement toward self-sufficiency in the community.

• An application from a Tribe, Alaska Native Village or Native American organization must be from the governing body.

• ANA will not accept applications from tribal components, which are tribally authorized divisions of the tribe, unless the application includes a Tribal resolution which clearly demonstrates the Tribe's support of the project and the Tribe's understanding that the applicant's project supplants the Tribe's authority to submit an application under that specific competitive area both for the current competition and for the duration of the approved project period, should the application be funded.

• Under each competitive area, ANA will accept only one application that serves or impacts a reservation, Tribe, or Native American community.

• For the May closing, applications for SEDS grants from Alaska Native entities may be submitted under either Competitive Area 1 or Competitive Area 2, but not both.

• Any non-profit organization submitting an application must submit proof of its non-profit status in the application at the time of submission. The non-profit agency can accomplish this by (1) Providing a copy of the applicant's listing in the Internal Revenue Service's (IRS) most recent list of tax exempt organizations described in Section 501(c)(3) of the IRS code or (2) providing a copy of the currently valid IRS tax exemption certificate, or (3) providing a copy of the articles of incorporation bearing the seal of the State or federally-recognized Tribe in which the corporation or association is domiciled. Organizations incorporating in American Samoa are cautioned that the Samoan government relies exclusively upon IRS determinations of non-profit status; therefore, articles of incorporation approved by the Samoan government do not establish non-profit status for these organizations for the purpose of eligibility for ANA funds.

• An applicant, other than a Federally-recognized tribe or an Alaska Native Village government, proposing a project benefiting Native Americans must provide assurance that its duly elected or appointed board of directors is representative of the community identified to be served. To establish compliance with the requirement, applicants should provide information establishing that at least a majority of the individuals serving on the non-profit's governing board fall into one or more of the following categories: (1) A current or past member of the community to be served; (2) a prospective participant or beneficiary of the project to be funded; or (3) have a cultural relationship with the community to be served.

• An applicant must provide a 20% non-federal share match of the approved project costs.

• An applicant must submit an itemized budget detailing the applicant's Federal and non-Federal share with source(s) cited.

• A request for a waiver of the non-Federal share requirement may be submitted in accordance with 45 CFR 1336.50(b)(3) of the Native American Program Regulations. Applications originating from American Samoa, Guam, or the Commonwealth of the Northern Mariana Islands are covered under section 501(d) of Public Law 95-134, as amended (48 U.S.C. 1469a) under which HHS waives any requirement for matching funds under $200,000 (including in-kind contributions). Therefore, for the ANA grants under these announced programs, no match is required for grants to these insular areas.

Part II—ANA Competitive Areas

The competitive areas under this Part describe ANA's funding authorities, priorities, special initiatives, special application requirements, and review criteria. The standard requirements necessary for each application, as well as standard ANA program guidance and technical guidance are described in Part III of this announcement.

Competitive Area (1): Social and Economic Development Strategies (SEDS) Projects

A. Purpose and Availability of Funds

This competitive area promotes the goal of social and economic self-sufficiency for American Indians, Alaska Natives, Native Hawaiians, and Native American Pacific Islanders through locally developed social and economic development strategies (SEDS). Approximately $20 million of financial assistance is anticipated to be available under this priority area for governance, social, and economic development projects. ANA anticipates awarding approximately 150 competitive grants ranging from $50,000 to $1,000,000.

B. Background

A community's movement toward self-sufficiency could be jeopardized if a careful balance between governmental, social and economic development is not maintained. For example, expansion of social services, without providing opportunities for employment and economic development, could lead to dependency on social services. Conversely, inadequate support services and training could seriously impede productivity and local economic development. Additionally, the necessary infrastructures must be developed or expanded at the community level to support social and economic development and growth. In designing their social and economic development strategies, ANA encourages an applicant to use or leverage all available human, natural, financial, and physical resources. ANA encourages the development and maintenance of comprehensive strategic plans, which are an integral part of attaining and supporting the balance necessary for successful activities that lead to self-sufficiency.

ANA assists tribal and village governments, and Native American organizations, in their efforts to develop and implement community-based, long-term governance, social, and economic development strategies. These strategies must promote the goal of self-sufficiency in local communities. The SEDS approach is based on ANA's program goals and incorporates two fundamental principles:

1. The local community and its leadership are responsible for determining goals, setting priorities, and planning and implementing programs aimed at achieving those goals. The local community is in the best position to apply its own cultural, political, and socio-economic values to its long-term strategies and programs.

2. Governance and social and economic development are interrelated. In order to move toward self-sufficiency, development in one area should be balanced with development in the others. Consequently, comprehensive development strategies should address all aspects of the governmental, economic, and social infrastructures needed to promote self-sufficient communities.

These definitions should be kept in mind as a local social and economic development strategy is developed as part of a grant application. ANA's SEDS policy uses the following definitions:

Governmental infrastructure includes the constitutional, legal, and administrative development requisite for independent governance.

Social infrastructure includes those components through which health, economic well being and culture are maintained within the community and that support governance and economic goals.

Economic infrastructure includes the physical, commercial, technological, industrial and/or agricultural components necessary for a functioning local economy, which supports the life-style, embraced by the Native American community.

C. Proposed Projects To Be Funded

This section provides descriptions of activities, which are consistent with the SEDS philosophy. Proposed activities should be tailored to reflect the governance, social and economic development needs of the local community and should be consistent and supportive of the proposed project objectives. The types of projects which ANA may fund include, but are not limited to, the following:

Governance

• Improvements in the governmental, judicial and/or administrative infrastructures of tribal and village governments (such as strengthening or streamlining management procedures or the development of tribal court systems);

• Increasing the ability of tribes, villages, and Native American groups and organizations to plan, develop, and administer a comprehensive program to support community social and economic self-sufficiency (including strategic planning);

• Increasing awareness of and exercising the legal rights and benefits to which Native Americans are entitled, either by virtue of treaties, the Federal trust relationship, legislative authority, executive orders, administrative and court decisions, or as citizens of a particular state, territory, of the United States;

• Status clarification activities for Native groups seeking Federal tribal recognition. Activities such as performing research, responding to deficiencies cited by the Bureau of Acknowledgment and Research (BAR) or any other function necessary to submit a petition for Federal acknowledgment to the Department of Interior. Applicants should submit a copy of their Letter of Intent to Petition and indicate their progress within the BIA process; and

• Development of and/or amendments to tribal constitutions, court procedures and functions, by-laws or codes, and council or executive branch duties and functions.

Economic Development

• Development of a community economic infrastructure that will result in businesses, jobs, and an economic support structure;

• Establishment or expansion of businesses and jobs in areas such as tourism, specialty agriculture, energy development, light and/or heavy manufacturing, technology and Internet activities, fabrication and construction companies, housing and fisheries or aqua-culture

• Stabilizing and diversifying a Native community's economic base through business development and enterprise zone ventures.

Social Development

• Enhancing tribal capabilities to design or administer programs aimed at strengthening the social environment desired by the local community;

• Developing local and intertribal models related to comprehensive planning and delivery of services;

• Developing programs or activities to preserve and enhance tribal heritage and culture; and

• Establishing programs, which involve extended families or tribal societies in activities that strengthen cultural identity and promote strong relationships and healthy community development.

Other SEDS Relationships. ANA encourages projects designed to use the SEDS approach to help achieve current initiatives and priorities of the Administration for Children and Families that are to:

• Address welfare reform initiatives such as moving families to work.

• Help ensure child support from both parents.

• Create access to affordable childcare for low income working families.

• Reach and help enroll children in quality pre-school programs to promote full development, including Head Start, Early Head Start and Child Care.

• Provide safety, permanency and well-being for children and double the number of adoptions from the public child welfare system.

D. Eligible Applicants

Applications from the Republic of Palau are no longer eligible for assistance under ANA programs. Palau ceased to be a Trust Territory of the United States by virtue of the compact of Free Association Act.

The following are eligible to apply under this competitive area:

• Federally recognized Indian Tribes;

• Consortia of Indian Tribes;

• Incorporated non-federally recognized Tribes;

• Incorporated non-profit multi-purpose community-based Indian organizations;

• Urban Indian Centers;

• National or regional incorporated non-profit Native American organizations with Native American community-specific objectives;

• Alaska Native villages as defined in the Alaska Native Claims Settlement Act (ANCSA) and/or non-profit village consortia;

• Incorporated nonprofit Alaska Native multi-purpose community-based organizations;

• Nonprofit Alaska Native Regional Corporations/Associations in Alaska with village specific projects;

• Nonprofit Native organizations in Alaska with village-specific projects;

• Public and nonprofit private agencies serving Native Hawaiians (The populations served may be located on these islands or on the continental United States);

• Public and nonprofit private agencies serving native peoples from Guam, American Samoa, or the Commonwealth of the Northern Mariana Islands. (The populations served may be located on these islands or in the United States); and

• Tribally-controlled community colleges, Tribally-controlled post-secondary vocational institutions, colleges and universities located in Hawaii, Guam, American Samoa, or the Commonwealth of the Northern Mariana Islands which serve Native American Pacific Islanders.

• Non-profit Alaska Native community entities or tribal governing bodies (Indian Reorganization Act or traditional Councils) as recognized by the Bureau of Indian Affairs.

E. Grantee Share of the Project

Grantees must provide at least 20 percent of the total approved cost of the project. The total approved cost of the project is defined as the sum of the Federal request and the non-Federal share. The non-Federal share may be met by cash or in-kind contributions, although applicants are encouraged to meet their match requirements through cash contributions. For example, a project requesting $100,000 in Federal funds must provide a non-federal share match of at least $25,000 (20% total approved project cost or 25% of federal request).

Grantees will be held accountable for the commitments of non-Federal resources as proposed, even if over the amount of the required match. Failure to provide the amount will result in disallowance of Federal match. As per 45 CFR Part 74.2, in-kind contributions are defined as the value of non-cash contributions provided by non-Federal third parties. Third party in-kind contributions may be in the form of real property, equipment, supplies and other expendable property, and the value of goods and services directly benefiting and specifically identifiable to the project or program.

In addition, an applicant may include other Federal funding sources where legislation authorizes use of funds for match and provided the source relates to the ANA project; examples are: Indian Child Welfare funds, through the Department of Interior; Indian Self-Determination and Education Assistance funds, through the Department of Interior and the Department of Health and Human Services; and Community Development Block Grant funds, through the Department of Housing and Urban Development. (Under 45 CFR 74.23(a) (5) use of funds under another Federal Program for non-federal match must be authorized by statute)

F. Review Criteria

A proposed project should reflect the purposes of ANA's SEDS policy and program goals described in the Background section of this competitive area; include a social and economic development strategy which reflects the needs and specific circumstances of the local community; and address the specific developmental steps that the tribe or Native American community is undertaking toward self-sufficiency. The evaluation criteria are closely related to each other and are considered as a whole in judging the overall quality of an application.

Points are awarded only to applications, which are responsive to this competitive area and these criteria. Proposed projects will be reviewed on a competitive basis using the following evaluation criteria.

(1) Long-Range Goals and Available Resources (15 Points)

Long-range goal(s) and a strategy. The applicant provides:

• The specific governance, social, or economic, long-range community goal(s) that the project relates to;

• How the community intends to achieve the goal(s) (Inclusion of the community's entire development plan is not necessary);

• The relationship between the community's goals and plans, and the applicant's proposed plan; and

• A clearly delineated social and economic development strategy (SEDS).

• A description of what constitutes the applicant's specific community.

• The application identifies and documents pre-existing involvement and support of the community in the planning process.

• Describes how the community will be involved in the implementation of the proposed project. Except for those communities, such as Hawaii and the Pacific Islands, where the systems of governance make such involvement inappropriate.

Applicants must document the community's support for the proposed project and explain the role of the community in the planning process and implementation of the proposed project. For tribes, a current signed resolution from the governing body of the tribe supporting the project proposal and stating that there has been community involvement in the planning of this project will suffice as evidence of community support/involvement.

The type of community you serve and nature of the proposal being made will influence the type of documentation necessary. For example, a Federally-recognized Tribe may choose to address this requirement by submitting a resolution stating that community involvement has occurred in the project planning or may determine that additional community support work is necessary. A tribal organization may submit resolutions supporting the project proposal from each of its member tribes, as well as a resolution from the applicant organization's governing body. Other examples of documentation include community surveys, minutes of community meetings, questionnaires, tribal presentations, and/or discussion/position papers that make specific reference to the proposed project submitted for funding.

In the discussion of community-based, long-range goals, non-Federally recognized and off-reservation groups are strongly encouraged to include a description of what constitutes their specific community.

Applications from National and Regional Indian and Native organizations must clearly demonstrate a need for the project, explain how the project was originated, state who the intended beneficiaries will be, and describe how the recipients will actually benefit from the project. National Indian and Native organizations should define their membership and describe how the organization operates.

In discussing the goals, strategy, and problems being addressed in the application, include sufficient background and/or history of the community concerning these issues and/or progress to date, as well as the size of the population to be served. This material will assist the reviewers in determining the appropriateness and potential benefits of the proposed project.

For all other eligible applicants, the type of community you serve will determine the type of documentation necessary. For example, an Inter-tribal organization may submit resolutions supporting the project proposal from each of its member's tribes, as well as a resolution from the applicant organization. Other examples of documentation include: community surveys; minutes of community meetings; questionnaires; tribal presentations; and/or discussion/position papers that make specific reference to the proposed project submitted for funding.

(b) Available resources (other than ANA request and the non-Federal share) which will assist, and be coordinated with the project are described. Non-ANA resources should be leveraged to strengthen and broaden the impact of the proposed project in the community. Project designs should explain how those parts of projects which ANA does not fund will be financed through other sources. For example, ANA does not fund construction. Applicants must show the relationship of non-ANA funded activities to those objectives and activities that are funded with ANA grant funds.

In the proposal narrative section, “Resources Available to the Proposed Project” the applicant should describe any specific financial circumstances which may impact on the project, such as any monetary or land settlements made to the applicant, and any restrictions on the use of those settlements. When the applicant appears to have other resources to support the proposed project and chooses not to use them, the applicant should explain why it is seeking ANA funds and not using these resources for the project.

(2) Organizational Capabilities and Qualifications (20 Points)

(a) Organizational capabilities are described.

• The management structure of the applicant is explained. Evidence of the applicant's ability to successfully manage projects of similar scope as the proposed project is demonstrated by the organization, and/or by the individuals designated to manage the project.

• The administrative structure of the applicant is explained. Where the proposed ANA project will fit within the current organizational structure is described. A project staffing pattern is presented.

(b) Position descriptions and qualifications of current and/or proposed staff are presented.

• Position descriptions and/or resumes of personnel, including those of consultants, are presented. Resumes must be included if individuals have been identified for positions in the application.

• The position descriptions and/or resumes relate specifically to the staff proposed in the Objective Work Plan and in the proposed budget.

• Position descriptions clearly describe each position's duties and clearly relate to the personnel staffing pattern required to achieve the project objectives.

• Resumes and/or proposed position descriptions demonstrate that the proposed staff are or will be qualified to carry out the project activities. Either the position descriptions or the resumes contain the qualifications and/or specialized skills necessary for overall quality management of the project.

Note: Applicants are strongly encouraged to give preference to Native Americans in hiring project staff and in contracting services under an approved ANA grant.

(3) Project Approach: Objectives, Activities and Outcomes (50 Points)

The application provides a narrative on the overall approach and operation of proposed project throughout entire project period.

(a) The application proposes a specific project Objective Work Plan (OWP). The OWP includes project objectives and specific activities for each budget period proposed and demonstrates that each of the objectives and its activities:

• Is measurable and/or quantifiable in terms of outcomes;

• Supports the community's social and economic development strategy;

• Clearly relates to the community's long-range goals;

• Can be accomplished with the available or expected resources during the proposed project period;

• Indicates when the objective, and major activities under each objective, will be accomplished;

• Specifies who will conduct the activities under each objective; and

• The approach supports a project that will be completed, or self-sustaining, or financed by other than ANA funds at the end of the project period.

The Objective Work Plan proposed should be of sufficient detail to become a monthly staff guide for project responsibilities. Applicants are encouraged to follow the recommended ANA application kit format however, it is not a requirement. The relevant information included in an Objective Work Plan should indicate what is to be achieved, how, by whom, when and indicators of evaluation.

(b) Completion of the proposed objectives will result in specific, measurable outcomes.

• The application shows how the expected outcomes will help the community meet its long-range goals.

• The specific information provided in the narrative and objective work plans on expected outcomes for each objective is the standard upon which its achievement can be evaluated at the end of each budget year.

(4) Budget (15 Points)

Detailed Federal and Non-federal share budgets and detailed budget justifications are provided for each budget period requested. The budget includes a line item justification for each requested budget category as listed in Section B of the Budget Categories Section on the SF 424A. The budget includes the necessary details to facilitate the determination of allowable costs and the relevance of these costs to the proposed project. The applicant requests funds that are appropriate and necessary for the scope of the proposed project.

• The non-federal share budget should identify the source and is supported by letters of commitment.

—Letters of commitment are binding when they specifically state the nature, the amount, and conditions under which another agency or organization will support a project funded with ANA funds. These resources may be human, natural or financial, and may include other Federal and non-Federal resources. For example, a letter from another Federal agency or foundation pledging a commitment of $200,000 in construction funding to complement proposed ANA funded pre-construction activity is evidence of a firm funding commitment. Statements that additional funding will be sought from other specific sources are not considered a binding commitment of outside resources

—Letters of support merely express another organization's endorsement of a proposed project. Support letters are not binding commitment letters or do not factually establish the authenticity of other resources and do not offer or bind specific resources to the project

• Applicants from American Samoa, Guam, and the Northern Mariana Islands are not required to provide a 20% match since the level of funding would not invoke a required match for grants to these insular areas. Therefore, applicants from these insular areas may not have points reduced for the lack of matching funds. However, they are expected to coordinate and organize the delivery of any non-ANA resources they propose for the project.

• If an applicant plans to charge or otherwise seek credit for indirect costs in its ANA application, a current copy of its Indirect Cost Rate Agreement must be included in the application.

• The budget includes sufficient funds for principal representatives, such as the chief financial officer or project director from the applicant organization to travel to one ANA post-award grant training and technical assistance workshop. This expenditure is mandatory for new grant recipients and optional for grantees that have had previous ANA grant awards. This travel and training should occur as soon as practical.

• For business development projects, the proposal demonstrates that the expected return on the funds used to develop the project provides a reasonable operating income and return within a future specified period.

• If a profit-making venture is being proposed, profits must be reinvested in the business in order to decrease or eliminate ANA's future participation. Such revenue must be reported as general program income. A decision will be made at the time of grant award regarding appropriate use of program income. (See 45 CFR part 74 and part 92.)

• The budget may include an employee fringe benefit that provides grant-funded employees with a retirement plan in addition to Social Security. The applicant is strongly encouraged to provide a retirement plan fringe benefit for grant-funded employees' salaries up to five (5) percent. ANA supports a retirement plan as a necessary, reasonable and allowable cost in accordance with OMB rules. Minimum recommended standards for a retirement fringe benefit plan are (1) the plan exists for the exclusive benefit of the participants; funds are to be used for retirement and certain other pre-retirement needs, not for the organization's needs. (2)The plan must have a vesting schedule that does not exceed the initial budget period of the ANA grant. (3) Other alternatives may be submitted for review and approval during grant award negotiations. Alternate proposals may include the use of Individual Retirement Accounts, Money Purchase Pension Plans, Defined Benefit Pension Plans, Combination Plans, etc.

G. Application Due Date(s)

The closing dates for submission of applications under this Competitive Area 1 area: January 17, 2003 and May 2, 2003.

H. Contact Information

Contact the ANA Applicant Help Desk at 202-690-7776 or toll free at 1-877-922-9262 for assistance.

Part II—Competitive Area (2): Alaska-Specific Social and Economic Development Strategies (AK-SEDS) Projects

A. Purpose and Availability of Funds

This competitive area funds Alaska Native social and economic development projects. Approximately $2.0 million is anticipated to be available for Alaska Native governance, social and economic development projects. ANA plans to award approximately 10-15 grants under this competitive area. For individual village projects, the funding level for a budget period of 12 months will be up to $125,000; for regional nonprofit and village consortia, the funding level for a budget period of 12 months will be up to $175,000, commensurate with approved multi-village objectives.

B. Background

Based on the ANA goals described in Part I, ANA implemented a special Alaska Social and Economic Development initiative in fiscal year 1984. This special effort was designed to provide financial assistance at the village level or for village-specific projects aimed at improving a village's governance capabilities and for social and economic development. This competitive area continues to implement this special initiative. ANA believes both the non-profit and for-profit corporations in Alaska can play an important supportive role in assisting individual villages to develop and implement their own locally determined strategies which capitalize on opportunities afforded to Alaska Natives under the Alaska Native Claims Settlement Act (ANCSA), Public Law 92-203.

C. Proposed Projects To Be Funded

While the Administration for Native Americans does not fund objectives or activities for the core administration of an organization. ANA will consider funding core administrative capacity building projects at the village government level if the village does not have governing systems in place.

Examples of the types of projects that ANA may fund include but are not limited to, projects that will:

Governance

• Initiate demonstration programs at the regional level to allow Native people to become involved in developing strategies to maintain and develop their economic subsistence base;

• Assist villages in developing land use capabilities and skills in the areas of land and natural resource management and protection, resource assessment and conducting environmental impact studies;

• Assist village consortia in the development of tribal constitutions, ordinances, codes and tribal court systems;

• Develop agreements between the State and villages that transfer programs jurisdictions, and/or control to Native entities;

• Strengthen village government control of land management, including land protection, through coordination of land use planning with village corporations and cities, if appropriate;

• Assist in status clarification activities;

• Initiate village level mergers between village councils, village corporations and others to coordinate programs and services which safeguard the health, well being and culture of a community and its people;

• Strengthen local governance capabilities through the development of village consortia and regional IRAs (Indian Reorganization Act councils organized under the Indian Reorganization Act, 25 U.S.C. 473a);

• Assist villages in preparing and coordinating plans for the development and/or improvement of water and sewer systems within the village boundaries;

• Assist villages in establishing initiatives through which youth may participate in the governance of the community and be trained to assume leadership roles in village governments; and

• Consider strategies and plans to protect against, monitor, and assist when catastrophic events occur, such as oil spills or earthquakes.

Social Development

• Assist in developing training and education programs for local jobs in education, government, and health-related fields; and work with these agencies to encourage job replacement of non-Natives by trained Natives;

• Develop local models related to comprehensive planning and delivery of social services;

• Develop new service programs, initially established with ANA funds, which will be funded by local communities or the private sector for continued operation after the ANA grant expires.

• Develop or coordinate with State-funded projects, activities designed to decrease the incidence of child abuse and neglect, fetal alcohol syndrome, and/or suicides;

• Assist in obtaining licenses to provide housing or related services from State or local governments; and

• Develop businesses to provide relief for caretakers needing respite from human service-related care work.

• Develop and implement researched-based programs to sustain healthy relationships and communities.

Economic Development

• Assist villages in developing businesses and industries which: (1) Use local materials; (2) create jobs for Alaska Natives; (3) are capable of high productivity at a small scale of operation; and (4) complement traditional and necessary seasonal activities;

• Substantially increase and strengthen efforts to establish and improve the village and regional business infrastructure and the capabilities to develop and manage resources in a highly competitive cash-economy system;

• Assist villages, or consortia of villages, in developing subsistence compatible industries that will retain local dollars in villages;

• Assist in the establishment or expansion of native-businesses; and

• Assist villages in labor export; i.e., people leaving the local communities for seasonal work and returning to their communities.

D. Eligible Applicants

The following organizations are eligible to apply under this competitive area:

• Federally recognized Indian Tribes in Alaska;

• Alaska Native villages as defined in the Alaska Native Claims Settlement Act (ANCSA) and/or nonprofit village consortia;

• Incorporated nonprofit Alaska Native multi-purpose community-based organizations;

• Nonprofit Alaska Native Regional Corporations/Associations in Alaska with village specific projects; and

• Nonprofit Native organizations in Alaska with village specific projects.

Although for-profit regional corporations established under ANCSA are not eligible applicants, individual villages and Indian communities are encouraged to use for-profit regional corporations as subcontractors and to collaborate with them in joint-venture projects for promoting social and economic self-sufficiency. ANA encourages the for-profit corporations to assist the villages in developing applications and to participate as subcontractors in a project.

For purposes of this announcement, ANA is using the Bureau of Indian Affairs' list of Federally recognized Indian tribes which includes non-profit Alaska Native community entities and tribal governing bodies (IRA or traditional councils). Other Federally recognized Indian tribes, which are not included on this list (e.g., those Tribes that have been recently recognized or restored by the United States Congress), are also eligible to apply for ANA funds.

Further information on eligibility requirements is presented in PART I, ANA Policy and Goals.

E. Grantee Share of the Project

Grantees must provide at least 20 percent of the total approved cost of the project; i.e. the sum of the Federal share and the non-Federal share. Further information on this requirement is in PART I ANA Policy and Goals, and in PART II SEDS, Section E, and section F, Review Criteria, sub-section (4) Budget Criteria.

F. Review Criteria

A proposed project should reflect the purposes of ANA's SEDS policy and goals as described in the Background section of this competitive area. Points are awarded only to applications, which are responsive to this competitive area and these criteria. Proposed projects are reviewed on a competitive basis using the following evaluation criteria:

(1) Long-Range Goals and Available Resources (15 Points)

(2) Organizational Capabilities and Qualifications (20 Points)

(3) Project Approach: Objectives, Activities and Outcomes (50 Points)

(4) Budget (15 Points)

Further information on requirements is in PART II SEDS, section F, Review Criteria.

G. Application Due Date

The closing date for submission of applications under this competitive area is May 2, 2003. Applicants are reminded that for this May closing, applications for SEDS grants from Alaska Native entities may be submitted under either Competitive Area 1 or Competitive Area 2, but not both. The cover page of the application must clearly indicate the correct competitive area.

H. Contact Information

Contact the ANA Applicant Help Desk at 202-690-7776 or toll free at 1-877-922-9262 for assistance.

Part III—General Application Information and Guidance

A. Definitions

Funding areas in this program announcement are based on the following definitions:

Multi-purpose Community-based Native American Organization: Is an association and/or corporation whose charter specifies that the community designates the Board of Directors and/or officers of the organization through an elective procedure and that the organization functions in several different areas of concern to the members of the local Native American community. These areas are specified in the by-laws and/or policies adopted by the organization. They may include, but need not be limited to, economic, artistic, cultural, and recreational activities, and the delivery of human services such as health care, day care, counseling, education, and training.

Multi-year Project: Is a project on a single theme that requires more than 12 months to complete and affords the applicant an opportunity to develop and address more complex and in-depth strategies than can be completed in one year. A multi-year project cannot be a series of unrelated objectives with activities presented in chronological order over a two or three year period.

Budget Period: Is the interval of time (usually 12 months) the project period is divided for budgetary and funding purposes.

Core Administration: Is funding for salaries for those functions which support the organization as a whole, or for purposes unrelated to the actual management or implementation of work conducted under an ANA approved project. Under Competitive Area 2, ANA will consider funding core administrative capacity building projects at the village government level if the village does not have governing systems in place. However, functions and activities that are clearly project related are eligible for grant funding. For example, the management and administrative functions necessary to carry out an ANA approved project are not considered core administration and are, therefore, eligible costs. Additionally, ANA will fund the salaries of approved staff for time actually and reasonably spent to implement a funded ANA project.

Real Property: Means land, including land improvements, structures and appurtenances thereto, excluding movable machinery and equipment.

Construction: Is the term, which specifies a project, supported through a discretionary grant or a cooperative agreement, to support the initial building of a facility.

Equipment: Is tangible, non-expendable personal property having a useful life of more than one year and an acquisition cost of $5,000 or more per unit.

Renovation or Alteration: May not exceed the lesser of $150,000 or 25 percent of the total direct costs approved for the entire budget period. The work required to change the interior arrangements or other physical characteristics of an existing facility or installed equipment so that it may be more effectively used for the project. Alteration and renovation may include work referred to as improvements, conversion, rehabilitation, remodeling, or modernization, but is distinguished from construction and large-scale permanent improvements.

B. Activities That Cannot Be Funded

The Administration for Native Americans does not fund:

• Projects that operate indefinitely or require ANA funding on a recurring basis.

• Projects in which a grantee would provide training and/or technical assistance (T/TA) to other tribes or Native American organizations which are otherwise eligible to apply to ANA (third party T/TA). However, the purchase of T/TA by a grantee for its own use or for its members' use (as in the case of a consortium), where T/TA is necessary to carry out project objectives, is acceptable.

• The support of on-going social service delivery programs or the expansion, or continuation, of existing social service delivery programs.

• ANA will not fund the purchase of real property.

• ANA will not fund construction.

• ANA will not fund objectives or activities for the support of core administration of an organization. (exception Alaska-SEDS)

• Costs of fund raising, including financial campaigns, endowment drives, solicitation of gifts and bequests, and similar expenses incurred solely to raise capital or obtain contributions are unallowable under an ANA grant award. However, even though these costs are unallowable for purposes of computing charges to Federal awards, they must be treated as direct costs for purposes of determining indirect cost rates and be allocated their share of the organization's indirect costs if they represent activities which (1) include the salaries of personnel, (2) occupy space, and (3) benefit from the organization's indirect costs.

Projects or activities that generally will not meet the purposes of this announcement are further discussed in Part III, Section G, General Guidance to Applicants, below.

C. Multi-Year Projects

A multi-year project is a project on a single theme that requires more than 17 months to complete and affords the applicant an opportunity to develop and address more complex and in-depth strategies than can be completed in one year. Applicants are encouraged to develop multi-year projects. A multi-year project cannot be a series of unrelated objectives with activities presented in chronological order over a two or three year period. Awards, on a competitive basis, will be for a one-year budget period, although project periods may be for up to three years. Applications for continuation grants funded under these areas beyond the one-year budget period, but within a two-to-three year project period, will be entertained in subsequent years on a non-competitive basis, subject to the availability of funds, satisfactory progress of the grantee and determination that continued funding would be in the best interest of the Government. Therefore, this program announcement does not apply to current ANA grantees with multi-year projects that apply for continuation funding for their second or third year budget periods.

Applicants proposing multi-year projects must fully describe each year's project objectives and activities. Separate Objective Work Plans (OWPs) must be presented for each project year and a separate itemized budget of the Federal and non-Federal costs of the project for each budget period must be included.

Applicants for multi-year projects must justify the entire time-frame of the project (i.e., why the project needs funding for more than one year) and clearly describe the results to be achieved for each objective by the end of each budget period of the total project period.

D. Intergovernmental Review of Federal Programs

This program is not covered by Executive Order 12372 or 45 CFR part 100.

E. The Application Process

1. Application Submission

(a) By Mail

One original, signed by an authorized representative, and two copies of the grant application, including all attachments, must be mailed on or before the specific closing date of each ANA competitive area to: U.S. Department of Health and Human Services, Administration for Children and Families, ACYF/Office of Grants Management, 370 L'Enfant Promenade, SW., Mail Stop: Aerospace Center 8th Floor-West, Washington, DC 20447-0002, Attention: Lois B. Hodge, ANA No. 93612-2003.

(b) By Hand Delivery

One original signed by an authorized representative, and two copies of the grant application, including all attachments may be hand delivered. Applications are accepted between the hours of 8 a.m. to 4:30 p.m., Monday through Friday. They are either received on or before the deadline date or postmarked on or before the established closing date at: Administration for Children and Families, ACYF/Office of Grants Management, ACF Mail Room, Second Floor Loading Dock, Aerospace Center, 901 D Street, SW., Washington, DC 20024,Attention: Lois B. Hodge, ANA No. 93612-2003.

Applicants are encouraged to request a legibly dated receipt from a commercial carrier or U.S. Postal Service as proof of timely mailing.

ACF cannot accommodate transmission of applications by fax or through other electronic media. Therefore, applications transmitted to ACF electronically will not be accepted regardless of date or time of submission and time of receipt.

2. Application Consideration

The ANA Commissioner determines the final action on each grant application received under this program announcement. The Commissioner's funding decision is based on the review panel's analysis of the application, recommendation and comments of ANA staff, State and Federal agencies having contract and grant performance related information, and other parties. The Commissioner makes grant awards consistent with the purpose of the Act, all relevant statutory and regulatory requirements, this program announcement, and the availability of funds.

The Administration for Native Americans funds projects that demonstrate the strongest prospects for addressing the stated purposes of this program announcement. All applicants should consider the following points: incomplete applications and applications that do not conform to this announcement will not be accepted for review. ANA will notify applicants in writing of any such determination.

(a) An incomplete application is one that is:

• Missing Form SF 424

• Does not have an authorized signature on the SF 424. The Standard Form 424 must be signed by an individual authorized (1) to act for the applicant tribe or organization, and (2) to assume the applicant's obligations under the terms and conditions of the grant award, including Native American Program statutory and regulatory requirements.

• Does not include proof of non-profit status, if applicable.

(b) Complete applications that conform to all the requirements of this program announcement are subject to a competitive review and evaluation process (discussed in section G below). Independent review panels consisting of reviewers familiar with American Indian Tribes and Native American communities and organizations, as appropriate, evaluate each application using the published criteria in each competitive area. As a result of the review, a normalized numerical score will be assigned to each application. A normalized score reflects the average score from the reviewers, adjusted to reflect the average score from the panels.

Successful applicants are notified through an official Financial Assistance Award (FAA) document. The FAA will state the amount of Federal funds awarded, the purpose of the grant, the terms and conditions of the grant award, the effective date of the award, the project period, the budget period, and the amount of the non-ACF matching share requirement.

Each tribe, Native American organization, or other eligible applicant may compete for a grant award however, no applicant may receive more than one SEDS grant. The Administration for Native Americans will accept only one application per competitive area from any one applicant. If an eligible applicant sends in two applications for the same competitive area, the one with the earlier postmark will be accepted for review unless the applicant withdraws the earlier application.

Applications for SEDS grants from Alaska Native entities may be submitted under either Competitive Area 1 or Competitive Area 2, but not both at the same time.

F. The Review Process

1. Initial Application Review

Applications submitted by the closing date and verified by the postmark under this program announcement will undergo a pre-review screening to determine that:

• The applicant is eligible in accordance with the Eligible Applicants Section of this announcement; and

• The application is signed and submitted by the deadline explained in section G, Application Due Date, in each competitive area of this announcement.

• The application narrative, forms and materials submitted are adequate to allow the review panel to undertake an in-depth evaluation and the project described is an allowable type. (All required materials and forms are listed in the Grant Application Checklist in the Application Kit).

Applications subjected to the pre-review described above which fail to satisfy one or more of the listed requirements will be ineligible or otherwise excluded from competitive evaluation.

2. Competitive Review of Accepted Applications

Applications which pass the pre-review will be evaluated and rated by an independent review panel on the basis of the specific evaluation criteria listed in Part II. These criteria are used to evaluate the quality of a proposed project, and to determine the likelihood of its success.

ANA staff cannot respond to requests for information regarding funding decisions prior to the official notification to the applicants. After the Commissioner has made decisions on all applications, unsuccessful applicants are notified in writing within 30 days. The notification will be accompanied by a critique including recommendations for improving the application.

Projects will not be ranked based on general financial need.

3. Appeal of Ineligibility

Applicants, who are initially excluded from competitive evaluation because of ineligibility, may appeal an ANA decision of applicant ineligibility. Likewise, applicants may also appeal an ANA decision that an applicant's proposed activities are ineligible for funding consideration. The appeals process is stated in the final rule published in the Federal Register on August 19, 1996 (61 FR 42817 and 45 CFR part 1336, subpart C).

G. General Guidance to Applicants

The following information is provided to assist applicants in developing a competitive application.

1. Program Guidance

• Applications from National Indian and Native American organizations must demonstrate a need for the project, explain how the project was originated, state who the intended beneficiaries will be, and describe how the recipients will actually benefit from the project.

• An application should describe a clear relationship between the proposed project, the social and economic development strategy and the community's long-range goals or plan.

• The project application, including the Objective Work Plans, must clearly identify in measurable terms the expected results, benefits or outcomes of the proposed project, and the positive or continuing impact that the project will have on the community.

• Supporting documentation, including letters of support, if available, or other specific testimonies from concerned interests other than the applicant should be included to demonstrate support for the feasibility of the project and the commitment of other resources to the proposed project.

• Applicants proposing an Economic Development project should address the project's feasibility. A business plan describing the project's feasibility and approach for the implementation and marketing of the business is recommended.

• Applications, which were not funded under a previous closing date and revised for resubmission, should refer to the changes, or reasons for not making changes, in their current application.

2. Technical Guidance

Application Kit (OMB# 0980-0204, expires April 30, 2003). The Application Kit contains the necessary forms and instructions to apply for a grant under this program announcement. Application kits may be obtained from ANA training and technical assistance providers. It is strongly encouraged that the applicants follow the ANA application kit to develop an application. The Kit provides practical information and helpful suggestions, and is an aid to help applicants prepare ANA applications.

Training and Technical Assistance (T/TA): ANA employs contractors to provide short-term training and technical assistance to eligible applicants. T/TA is available under these contracts for a wide range of needs however, the contractors are not authorized to write applications. The T/TA is provided at no cost to the eligible entity. To obtain an application kit and/or, training and technical assistance, applicants are encouraged to contact the T/TA provider within the appropriate service area. To locate the T/TA provider currently serving the region you are located in you may call the ANA Help Desk at 1-877-922-9262; or visit the ANA Web site at: http://www.acf.hhs.gov/programs/ana/.

• The Cover Page (included in the Kit) should be the first page of an application, followed by the one-page abstract.

• The SF 424, Block 13, must specify the entire project period length requested and not just the length of the first budget period. Should the application narrative propose one length of project period and the SF 424 specify a conflicting length of project period, ANA will consider the project period specified on the SF 424 as the official request.

• The SF 424, line 15a, must specify the Federal funds requested for the first Budget Period only and not the entire Project Period.

• For purposes of developing an application, applicants should plan for a project start date approximately 120 days after the closing deadline date.

• The Administration for Native Americans will not fund essentially identical projects serving the same constituency.

• If other Federal funding sources could support a project, the applicant should fully explain its reasons for not pursuing other Federal funds for the project.

• The Administration for Native Americans will critically evaluate applications in which the acquisition of equipment is a major component of the Federal share of the budget. During negotiation, ANA may delete such expenditures from the budget of an otherwise approved application, if not fully justified by the applicant and deemed not appropriate to the needs of the project.

• The Administration for Native Americans recommends that the pages of the application be numbered sequentially and that a table of contents is provided. Simple tabbing of the criterion sections of the application is also helpful.

• Applicants may propose a 17-month budget and project period. However, the budget period for the first year of a multi-year project may only be 12 months.

3. Projects or Activities That Generally Will Not Meet the Purposes of This Announcement

• Projects that request funds for feasibility studies, business plans, marketing plans or written materials, such as manuals, that are not an essential part of the applicant's long-range development plan. As an objective of a larger project, business plans are allowable. ANA expects written evidence of the solid investment of time and consideration on the part of the applicant with regard to the development of business plans. Business plans should be developed based on market analysis and feasibility studies regarding the potential success to the business prior to the submission of the application.

• Core administration functions, or other activities, which essentially support only the applicant's on-going administrative functions. However, under Competitive Area 2, ANA will consider funding core administrative capacity building projects at the village government level if the village does not have governing systems in place.

• Project goals, which are not responsive to one or more of the funding competitive areas.

• Proposals from consortia of tribes that are not specific with regard to support from, and roles of, member tribes. ANA expects an application from a consortium to have goals and objectives that will create positive impacts and outcomes in the communities of its members. Proposals from consortia of tribes should have individual objectives, which are related to the larger goal of the proposed project. Project objectives may be tailored to each consortia member, but within the context of a common goal for the consortia. In situations where both a consortia of tribes and the tribes who belong to the consortia receive ANA funding, ANA expects that consortia groups will not seek funding that duplicates activities being conducted by their member tribes.

• Projects that will not be completed, self-sustaining, or supported by other than ANA funds, at the end of the project period. All projects funded by ANA must be completed, or self-sustaining or supported with other than ANA funds at the end of the project period. Completed means that the project ANA funded is finished, and the desired outcome(s) have been attained. Self-sustaining means that a project will continue without outside resources. Supported by other than ANA funds means that the project will continue beyond the ANA project period, but will be supported by funds other than ANA's.

• ANA will not fund investment capital for purchase or takeover of an existing business, for purchase or acquisition of a franchise, or for purchase of stock or other similar investment instruments.

• Renovation or alteration unless it is essential for the project.

• Projects originated and designed by consultants whom provide a major role for themselves in the proposed project and are not members of the applicant organization, tribe or village.

H. Paperwork Reduction Act of 1995

Under the Paperwork Reduction Act of 1995, Pub. L. 104-13, the Department is required to submit to the Office of Management and Budget (OMB) for review and approval any reporting and record keeping requirements in regulations including program announcements. This program announcement does not contain information collection requirements beyond those approved for ANA grant applications under the Program Narrative Statement by OMB approval number 0980-0204.

I. Receipt of Applications

1. Deadlines

Mailed applications shall be considered as meeting an announced deadline if they are either received on or before the deadline date or sent on or before the deadline date and received by ACF in time for the independent review.

Applicants are encouraged to request a legibly dated U.S. Postal Service postmark or to obtain a legibly dated receipt from a commercial carrier or the U.S. Postal Service. Private metered postmarks shall not be acceptable as proof of timely mailing.

Applications hand carried by applicants, applicant couriers, or by overnight/express mail couriers shall be considered as meeting an announced deadline if they are received on or before the deadline date or postmarked on or before the deadline date. Applicants are encouraged that express/overnight mail services do not always deliver as agreed.

No additional material will be accepted, or added to an application, unless it is postmarked by the deadline date. Applications and related materials postmarked after the closing date are classified as late.

2. Late Applications

Applications, which do not meet the Deadline criteria, are considered late applications. ACF shall notify each late applicant that its application will not be reviewed in the current competition.

3. Extension of Deadlines

The Administration for Children and Families may extend an application deadline for applicants affected by acts of God such as floods and hurricanes, or when there is a widespread disruption of the mails. A determination to extend or waive deadline requirements rests with the Chief Grants Management Officer.

(Catalog of Federal Domestic Assistance Program Numbers: 93.612, Native American Programs)

Dated: September 17, 2002.
Sharon G. McCully,
Acting Deputy Commissioner, Administration for Native Americans.

[FR Doc. 02-24122 Filed 9-20-02; 8:45 am]

BILLING CODE 4184-01-P